FEDERAL COMMUNICATIONS COMMISSION

[OMB 3060-0057; FR ID 294965]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before July 28, 2025. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-0057.

Title: Application for Equipment Authorization, FCC Form 731.

Form Number: FCC Form 731.

Type of Review: Revision of a currently approved collection.

Respondents: Business or other for-profit.

Number of Respondents and Responses: 11,305 respondents; 24,893 responses.

Estimated Time per Response: 40 hours.

Frequency of Response: On occasion and ongoing reporting requirements and third party disclosure requirements.

Obligation To Respond: Required to obtain or retain benefits. Statutory authority for this information collection is contained in 47 U.S.C. 1, 4, 4(i), 301, 302a, 303, 307, 309(j), 310, 312, and 316 of the Communications Act of 1934, as amended, 47 U.S.C. 151, 154, 154(i), 301, 302a, 303, 307, 309(j), 310, 312, 316, and the Secure Equipment Act of 2021, Public Law 117-55, 135 Stat. 423.

Total Annual Burden: 207,068 hours.

Total Annual Cost: $50,215,140.

Needs and Uses: The Commission will submit this revised information collection to the Office of Management and Budget (OMB) after this 60 day comment period in order to obtain OMB's full three year clearance.

On August 29, 2024, the Commission released a Report and Order, WT Docket No. 22-323, Spectrum Rules and Policies for the Operation of Unmanned Aircraft Systems, FCC 24-91 (90 FR 1380, January 8, 2025). Among the adopted rules intended to enable uncrewed aircraft systems (UAS) operators to access dedicated, reliable spectrum in the 5030-5091 MHz band to support safety-of-flight, control-related communications, while also allowing flexibility for the industry to further develop, the Commission added new rules in 47 CFR part 88 and revised Form 731, the Application for Equipment Authority. These new rules provide a critical first step to promote access by UAS operators to dedicated spectrum, while also allowing a consensus to emerge on key issues for this industry.

These new rules resulting in revisions to the information collection are as follows:

§ 88.111 Certification Required

Each transmitter utilized for operation under this part and each transmitter marketed as set forth in § 2.803 of this chapter must be certified by the Commission for use in part 88 services following the procedures set forth in part 2, subpart J of this chapter.

§ 88.113 Authorization of Equipment

An applicant for certification of equipment intended for transmission in the 5030-5091 MHz band must notify the FAA of the filing of a certification application. The letter of notification must be mailed to: FAA, Spectrum Engineering Service Group, AJW-1900, 800 Independence Ave. SW, Washington, DC 20591 prior to the filing of the application with the Commission.

(a) The notification letter must describe the equipment, and give the manufacturer's identification, antenna characteristics, rated output power, emission type and characteristics, the frequency or frequencies of operation, and essential receiver characteristics if protection is required.

(b) The certification application must include a copy of the notification letter to the FAA. The Commission will not act until it receives the FAA's determination regarding whether it objects to the application for equipment authorization. The FAA should mail its determination to: Office of Engineering and Technology Laboratory Division, Equipment Authorization and Compliance Branch, 7435 Oakland Mills Rd., Columbia, MD 21046. The Commission will consider the FAA determination before taking final action on the application.

§ 88.115 RF Safety

Licensees and manufacturers are subject to the radio frequency radiation exposure requirements specified in §§ 1.1307(b), 1.1310, 2.1091, and 2.1093 of this chapter, as appropriate. Applications for equipment authorization of mobile or portable devices operating under this section must contain a statement confirming compliance with these requirements for both fundamental emissions and unwanted emissions and technical information showing the basis for this statement must be submitted to the Commission upon request.

Federal Communications Commission.
Marlene Dortch,
Secretary, Office of the Secretary.

[FR Doc. 2025-09532 Filed 5-27-25; 8:45 am]

BILLING CODE 6712-01-P